INTERNATIONAL TRADE COMMISSION

[USITC SE-18-043]

Government in the Sunshine Act Meeting Notice

Agency Holding the Meeting: United States International Trade Commission.

Time and Date: September 21, 2018 at 11:00 a.m.

Place: Room 101, 500 E Street SW, Washington, DC 20436, Telephone: (202) 205-2000.

Status: Open to the public.

Matters to be Considered:

1. Agendas for future meetings: None.

2. Minutes.

3. Ratification List.

4. Vote on Inv. Nos. 701-TA-609 and 731-TA-1421 (Preliminary)(Steel Trailer Wheels from China). The Commission is currently scheduled to complete and file its determinations on September 24, 2018; views of the Commission are currently scheduled to be completed and filed on October 1, 2018.

5. Outstanding action jackets: None.

In accordance with Commission policy, subject matter listed above, not disposed of at the scheduled meeting, may be carried over to the agenda of the following meeting.

By order of the Commission.
Issued: September 7, 2018.
William Bishop,
Supervisory Hearings and Information Officer.

[FR Doc. 2018-19861 Filed 9-7-18; 4:15 pm]

BILLING CODE 7020-02-P